DEPARTMENT OF THE INTERIOR

Bureau of Land Management

[AK-910-1410-PG]

Notice of Public Meeting, Alaska Resource Advisory Council

AGENCY: Bureau of Land Management, Alaska State Office, Interior.

ACTION: Notice of public meeting.

SUMMARY: In accordance with the Federal Land Policy and Management Act (FLPMA) and the Federal Advisory Committee Act of 1972 (FACA), the U.S. Department of the Interior, Bureau of Land Management (BLM) Alaska Resource Advisory Council will meet as indicated below.

DATES: The meeting will be held July 10, 2003, 1-4 p.m., at the Wiseman Community Center, near milepost 188 of the Dalton Highway. The council will conduct a brief meeting in conjunction with a field tour of the Dalton Highway, visit with area residents, and hear public comment.

FOR FURTHER INFORMATION CONTACT: Teresa McPherson, Alaska State Office, 222 W. 7th Avenue #13, Anchorage, AK 99513. Telephone (907) 271-3322 or e-mail Teresa_McPherson@ak.blm.gov.

SUPPLEMENTARY INFORMATION: The 13-member Council advises the Secretary of the Interior, through the Bureau of Land Management, on a variety of planning and management issues associated with public land management in Alaska. At this meeting, topics we plan to discuss include:

• Management of the Dalton Highway Utility Corridor

• Status of planning in the National Petroleum Reserve Alaska (NPR-A)

• Other topics the Council may raise

All meetings are open to the public. The public may present written comments to the Council. Each formal Council meeting will also have time allotted for hearing public comments. Depending on the number of persons wishing to comment and time available, the time for individual oral comments may be limited. Individuals who plan to attend and need special assistance, such as sign language interpretation, transportation, or other reasonable accommodations, should contact BLM.

Dated: May 28, 2003.
Henri R. Bisson,
State Director.

[FR Doc. 03-13971 Filed 6-3-03; 8:45 am]

BILLING CODE 4310-JA-M